DEPARTMENT OF COMMERCE

Bureau of Industry and Security

15 CFR Part 744

[Docket No. 200818-0219]

RIN 0694-AI18

Addition of Entities to the Entity List; Corrections to Certain Existing Entries on the Entity List

AGENCY: Bureau of Industry and Security, Commerce.

ACTION: Final rule.

SUMMARY: In this final rule, the Bureau of Industry and Security (BIS) amends the Export Administration Regulations (EAR) by adding forty-seven entities, under fifty-one entries to the Entity List. These forty-seven entities have been determined by the U.S. Government to be acting contrary to the national security or foreign policy interests of the United States. These entities are located under the destinations of Canada, China, Hong Kong, Iran, Malaysia, Oman, Pakistan, Thailand, Turkey, United Arab Emirates, and the United Kingdom. This rule also corrects four existing entries on the Entity List under the destination of China.

DATES: This rule is effective September 22, 2020.

FOR FURTHER INFORMATION CONTACT: Chair, End-User Review Committee, Office of the Assistant Secretary, Export Administration, Bureau of Industry and Security, Department of Commerce, Phone: (202) 482-5991, Fax: (202) 482-3911, Email: ERC@bis.doc.gov.

SUPPLEMENTARY INFORMATION:

Background

The Entity List (15 CFR, subchapter C, part 744, Supplement No. 4) identifies entities reasonably believed to be involved in, or to pose a significant risk of being or becoming involved in, activities contrary to the national security or foreign policy interests of the United States. The Export Administration Regulations (EAR) (15 CFR parts 730-774) impose additional license requirements on, and limit the availability of most license exceptions for, exports, reexports, and transfers (in-country) to listed entities. The license review policy for each listed entity is identified in the “License review policy” column on the Entity List, and the impact on the availability of license exceptions is described in the relevant Federal Register document adding entities to the Entity List. BIS places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

ERC Entity List Decision

Additions to the Entity List

This rule implements the decision of the ERC to add forty-seven entities, under fifty-one entries (four entities are identified in two destinations) to the Entity List. The forty-seven entities are being added based on § 744.11 (License requirements that apply to entities acting contrary to the national security or foreign policy interests of the United States) of the EAR. The entities are located in Canada, the People's Republic of China (China), Hong Kong, Iran, Malaysia, Oman, Pakistan, Thailand, Turkey, United Arab Emirates (UAE) and the United Kingdom.

The ERC reviewed and applied § 744.11(b) (Criteria for revising the Entity List) in making the determination to add these forty-seven entities to the Entity List. Under that paragraph, persons for whom there is reasonable cause to believe, based on specific and articulable facts, that they have been involved, are involved, or pose a significant risk of being or becoming involved in, activities that are contrary to the national security or foreign policy interests of the United States, along with those acting on behalf of such persons, may be added to the Entity List. Paragraphs (b)(1) through (5) of § 744.11 provide an illustrative list of activities that could be contrary to the national security or foreign policy interests of the United States.

The ERC determined to add “Affiliated Supply and Consultancy Services,” “Busan International,” “IMCO Technology and Services,” and “Iqbal Enterprises” under the destination of Pakistan. Specifically, the ERC determined to add “Busan International” and “IMCO Technology and Services” to the Entity List on the basis of their contributions to unsafeguarded nuclear activities”. “Affiliated Supply and Consultancy Services” has been involved in the procurement of U.S.-origin goods in association with Pegasus General Trading FZC, an entity added to the Entity List on March 16, 2020 (85 FR 14794). “Iqbal Enterprises” is added to the Entity List for its contributions to unsafeguarded nuclear activities.

The ERC determined to add “Business Empire International” and “KTK Engineering (PVT) LTD” to the Entity List under the destination of Pakistan as well as to add “S&D Industry Ltd.,” “Rigsol Well Drilling Equipment Trading,” and “E and I Systems FZE” to the Entity List under the destination of the UAE all for actions contrary to the national security or foreign policy interests of the United States. Specifically, the ERC determined to add these entities to the Entity List for their contributions to unsafeguarded nuclear activities.

The ERC determined to add “Ahmad Nozad Gholik,” “Behnam Pouremadi,” “Hamid Sepehrian,” “Mojtaba Farhadi Ganjeh,” and “Sayyed Javad Ahmadi” to the Entity List under the destination of Iran for actions contrary to the national security or foreign policy interest of the United States. Specifically, these individuals are added on the basis of their support for nuclear-related activities that are contrary to the national security or foreign policy of the United States.

The ERC determined to add to the Entity List “Blue Lines FZE” under the destinations of Turkey and the UAE; “MKB Pacific Air SDN BHD” under the destination of Malaysia; “Ajmal Aviation” under the destination of the UAE; and “Blue Lines Company” as well as two associated individuals—“Mahdi Keivan Bahari” and “Mahsa Keivan Bahari”—under the destination of Iran. These entities were instrumental in the procurement and/or re-transfer of U.S.-origin items to Iran, in violation of the Iranian Transactions and Sanctions Regulations and the EAR, and are implicated as being directly involved in activities that are contrary to the national security or foreign policy interests of the United States as set forth in § 744.11(b) of the EAR.

The ERC determined to add “Landa Ariya Electronic Co.” to the Entity List under the destinations of China and Iran as well as its employees “Ali Basati,” “Mohsen Asraftaba,” and “Behnaz Moazen” under the destination of Iran. In addition, the ERC determined to add “Oriental Logistics Group LTD” and its employee “Roin Luo” as well as “Shenzhen Iprogift Technology Co., Ltd,” “Shenzhen Shunjinxin Import & Export Co. Ltd.,” and “Suki Zhan” to the Entity List under the destination of China. “Oriental Logistics Group LTD” is also being added under the destination of Hong Kong, along with “Hong Kong Fung Tak Enterprise.” There is reasonable cause to believe, based on specific and articulable facts, that these ten entities were involved in the diversion of U.S.-origin unmanned aerial vehicle parts, as well as other items, to Iran via China without the required licenses.

The ERC determined to add to the Entity List “Airborne Logistics LLC” under the destination of Oman; “Aviation Network Associates” and “PremiAir Aerospace” under the destination of the United Kingdom; “FARSCO Aviation MRO Centre” under the destination of Iran; “Marilog Avion Services Company” under the destination of Thailand; and “Transworld Aviation” under the destination of the UAE, and certain employees of these entities. Specifically, ERC determined to add to the Entity List “Marilog Avion Services Company Limited” and its principal employees “Mohamad Rifan,” and “Ibrahim Nasir”; “PremiAir Aerospace” and its principal employees “Graham Avery,” and “Daniel Basden”; “Aviation Network Associates” and its principal employee “Chas Newport”; “Transworld Aviation” and its principal employees “Shehab Bin Braik Al Breiki,” “Abdulla K. Al Suleimani,” “Lufti Busaidi Sulaiman,” and “Mohamed Nashir”; “Airborne Logistics LLC” and “FARSCO Aviation MRO Centre” and its principal employees “S.M. Mirbagheri” and “Rouhollah Abdollahi.” These entities have been involved in a scheme to illicitly procure Bell 412 helicopters on behalf of Iranian end-user, “FARSCO Aviation MRO Centre.”

For thirty-nine of the forty-seven entities added to the Entity List in this final rule, BIS imposes a license requirement for all items subject to the EAR and a license review policy of presumption of denial. For “Busan International,” “Business Empire International,” “E and I Systems FZE,” “IMCO Technology and Services,” “Iqbal Enterprises,” “KTK Engineering (PVT) LTD,” “Rigsol Well Drilling Equipment Trading,” and “S&D Industry Ltd.,” BIS imposes the license review policy set forth in § 744.2(d) of the EAR, a nuclear end-user and end-use based provision. No license exceptions are available for exports, reexports, or transfers (in-country) to the entities being added to the Entity List in this rule. The acronym “a.k.a.” (also known as) is used in entries on the Entity List to identify aliases, thereby assisting exporters, reexporters, and transferors in identifying entities on the Entity List.

For the reasons described above, this final rule adds the following forty-seven entities under fifty-one entries to the Entity List.

Canada

• Ibrahim Nasir.

China

• Landa Ariya Electronic Co;

• Oriental Logistics Group LTD;

• Roin Luo;

• Shenzhen Iprogift Technology Co., Ltd;

• Shenzhen Shunjinxin Import & Export Co. Ltd.; and

• Suki Zhan.

Hong Kong

• Hong Kong Fung Tak Enterprise; and

• Oriental Logistics Group LTD.

Iran

• Ahmad Nozad Gholik;

• Ali Basati;

• Behnam Pouremadi;

• Behnaz Moazen;

• Blue Lines Company;

• FARSCO Aviation MRO Centre;

• Hamid Sepehrian;

• Landa Ariya Electronic Co.;

• Mahdi Keivan Bahari;

• Mahsa Keivan Bahari;

• Mohsen Asraftaba;

• Mojtaba Farhadi Ganjeh;

• Rouhollah Abdollahi;

• S. M. Mirbagheri; and

• Sayyed Javad Ahmadi.

Malaysia

• MKB Pacific Air SDN BHD.

Oman

• Airborne Logistics LLC.

Pakistan

• Affiliated Supply and Consultancy Services;

• Busan International;

• Business Empire International;

• IMCO Technology and Services;

• Iqbal Enterprises; and

• KTK Engineering (PVT) LTD.

Thailand

• Marilog Avion Services Company, Limited; and

• Mohamad Rifan.

Turkey

• Blue Lines FZE.

United Arab Emirates

• Abdulla K. Al Suleimani;

• Ajmal Aviation;

• Blue Lines FZE;

• E and I Systems FZE;

• Ibrahim Nasir;

• Lufti Busaidi Sulaiman;

• Mohamed Nashir;

• Rigsol Well Drilling Equipment Trading;

• S&D Industry Ltd.;

• Shehab Bin Braik Al Breiki; and

• Transworld Aviation.

United Kingdom

• Aviation Network Associates;

• Chas Newport;

• Daniel Basden;

• Graham Avery; and

• PremiAir Aerospace.

Corrections to the Entity List

In this final rule, BIS is correcting the Federal Register citation for four existing entries on the Entity List under the destination of China. These entities were added to the Entity List under the destination of China on October 9, 2019 (84 FR 54004) and June 5, 2020 (85 FR 34505), and modified on July 22, 2020 (85 FR 44159). In the July 22, 2020, final rule, the entries for “Nanjing Fiberhome,” “NetPosa,” “SenseNets,” and “Shihezi Municipality” did not include the Federal Register citation. This rule is adding the Federal Register citation for these four entities.

Savings Clause

Shipments of items removed from eligibility for a License Exception or export or reexport without a license (NLR) as a result of this regulatory action that were en route aboard a carrier to a port of export or reexport, on September 22, 2020, pursuant to actual orders for export or reexport to a foreign destination, may proceed to that destination under the previous eligibility for a License Exception or export or reexport NLR.

Export Control Reform Act of 2018

On August 13, 2018, the President signed into law the John S. McCain National Defense Authorization Act for Fiscal Year 2019, which included the Export Control Reform Act of 2018 (ECRA), 50 U.S.C. 4801-4852. ECRA provides the legal basis for BIS's principal authorities and serves as the authority under which BIS issues this rule.

Rulemaking Requirements

Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866. This rule is not an Executive Order 13771 regulatory action because this rule is not significant under Executive Order 12866.

Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications, and carries a burden estimate of 42.5 minutes for a manual or electronic submission. Total burden hours associated with the PRA and OMB control number 0694-0088 are not expected to increase as a result of this rule.

This rule does not contain policies with Federalism implications as that term is defined in Executive Order 13132.

Pursuant to § 1762 of ECRA, this action is exempt from the Administrative Procedure Act (5 U.S.C. 553) requirements for notice of proposed rulemaking, opportunity for public participation, and delay in effective date.

Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2019, 84 FR 49633; Notice of November 12, 2019, 84 FR 61817.

2. Supplement No. 4 to part 744 is amended:

a. Under CANADA, by adding in alphabetical order an entry for “Ibrahim Nasir”;

b. Under CHINA, PEOPLE'S REPUBLIC OF:

i. By adding in alphabetical order entries for “Landa Ariya Electronic Co.”, “Oriental Logistics Group LTD”, “Roin Luo”, “Shenzhen Iprogift Technology Co, Ltd.”, “Shenzhen Shunjinxin Import & Export Co. Ltd.”, and “Suki Zhan”; and

ii. By revising the entries “Nanjing Fiberhome Starrysky Communication Development Co.”, “NetPosa”, “SenseNets”, and “Shihezi Municipality Public Security Bureau”;

c. Under HONG KONG, by adding in alphabetical order entries for “Hong Kong Fung Tak Enterprise” and “Oriental Logistics Group LTD”;

d. Under IRAN, by adding in alphabetical order entries for “Ahmad Nozad Gholik”, “Ali Basati”, “Behnam Pouremadi”, “Behnaz Moazen”, “Blue Lines Company”, “FARSCO Aviation MRO Centre”, “Hamid Sepehrian”, “Landa Ariya Electronic Co.'', “Mahdi Keivan Bahari”, “Mahsa Keivan Bahari”, “Mohsen Asraftaba”, “Mojtaba Farhadi Ganjeh”, “Rouhollah Abdollahi”, “S.M. Mirbagheri”, and “Sayyed Javad Ahmadi”;

e. Under MALAYSIA, by adding in alphabetical order an entry for “MKB Pacific Air SDN BHD”;

f. Under OMAN, by adding in alphabetical order an entry for “Airborne Logistics LLC”;

g. Under PAKISTAN, by adding in alphabetical order entries for “Affiliated Supply and Consultancy Services”, “Busan International”, “Business Empire International”, “IMCO Technology and Services”, “Iqbal Enterprises”, and “KTK Engineering (PVT) LTD”;

h. Under THAILAND, by adding in alphabetical order entries for “Marilog Avion Services Company, Limited” and “Mohamad Rifan”;

i. Under TURKEY, by adding in alphabetical order an entry for “Blue Lines FZE”;

j. Under UNITED ARAB EMIRATES, by adding in alphabetical order entries for “Abdulla K. Al Suleimani”, “Ajmal Aviation”, “Blue Lines FZE”, “E and I Systems FZE”, “Ibrahim Nasir”, “Lufti Busaidi Sulaiman”, “Mohamed Nashir”, “Rigsol Well Drilling Equipment Trading”, “S&D Industry Ltd.”, “Shehab Bin Braik Al Breiki”, and “Transworld Aviation”; and

k. Under UNITED KINGDOM, by adding in alphabetical order entries for “Aviation Network Associates”, “Chas Newport”, “Daniel Basden”, “Graham Avery”, and “PremiAir Aerospace”.

The additions and revisions read as follows:

Supplement No. 4 to Part 744—Entity List
Country | Entity | License requirement | License review policy | Federal Register citation
* * * * * * *
CANADA | * * * * * *
| Ibrahim Nasir, 1902-1155 High Street, Coquitlam, BC, Canada V3B 7W4. (See alternate address in UAE). | For all items subject to the EAR. (See § 744.11 of the EAR). | Presumption of denial | 85 FR [INSERT FR PAGE NUMBER] 9/22/20.
| * * * * * *
* * * * * * *
CHINA, PEOPLE'S REPUBLIC OF | * * * * * *
| Landa Ariya Electronic Co., a.k.a., the following three aliases: —Landa Ariya Electronic Co. Ltd.; —Landa Electronic; and —Landa Electronics. Building B, No. 20J, Huaqiang Plaza, Shenzhen, China; and Huaqiang North Road, Futian District, Shenzhen, Guangdong, China. (See alternate addresses in Iran). | For all items subject to the EAR. (See § 744.11 of the EAR). | Presumption of denial | 85 FR [INSERT FR PAGE NUMBER] 9/22/20.
| * * * * * *
| Nanjing FiberHome Starrysky Communication Development -o., a.k.a., the following two aliases: —Nanjing Fenghuo Xingkong Communication Development Co.; and —Fiberhome StarrySky Co., Ltd. 88 Yunlongshan Road, Jianye District, Nanjing China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR 34505, 6/5/20. 85 FR 44159, 7/22/20.
| * * * * * *
| NetPosa, a.k.a., the following three aliases: —Dongfang Netpower Technology Co.; —Dongfang Wangli Technology; and —NetPosa Technologies Ltd. Room 408, 4th Floor, Shining Xueyuan Road, Haidian District, Beijing, China; and Room 3603, Wanda Plaza, No. 555 Xuanwuhu Road, Economic and Technological Development Zone, Urumqi, China; and 26F, BLK C, Wangjing SOHO Tower 2, #1 Futong Ave, Chaoyang District, Beijing, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR 34505, 6/5/20. 85 FR 44159, 7/22/20.
| * * * * * *
| Oriental Logistics Group LTD, a.k.a., the following one alias: —Oriental Air Transport Service Ltd. Room 2114, 21/F., Shenhua Commercial, Bldg, No. 2018 Jiabin Rd, Luo Hu District, Shenzhen, China 518001 (See alternate addresses in Hong Kong). | For all items subject to the EAR. (See § 744.11 of the EAR). | Presumption of denial | 85 FR [INSERT FR PAGE NUMBER] 9/22/20.
| * * * * * *
| Roin Luo, Room 2114, 21/F., Shenhua Commercial, Bldg, No. 2018 Jiabin Rd, Luo Hu District, Shenzhen, China 518001. | For all items subject to the EAR. (See § 744.11 of the EAR). | Presumption of denial | 85 FR [INSERT FR PAGE NUMBER] 9/22/20.
| * * * * * *
| SenseNets, a.k.a., the following six aliases: —Deep Net Vision; —Deep Network Vision; —Sensenets Corporation; —Shenzhen Net Vision; —Shenzhen Shenwang Vision Technology Co., Ltd.; and —Shenzhen Vision. 8th Floor, East Tower, Skyworth Semiconductor Design Building, No. 18 Gaoxin South 4th Road, Yuehai Street, Nanshan District, Shenzhen, China; and 16F, China Merchants Development Center, No. 1063, Nanhai Avenue, Nanshan District, Shenzhen, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 85 FR 34505, 6/5/20. 85 FR 44159, 7/22/20.
| * * * * * *
| Shenzhen Iprogift Technology Co., Ltd, a.k.a., the following three aliases: —Iprogift Shenzhen Technology Co., Ltd.; —Shenzhen Iprogift Technology; and —Iprogift Shenzhen Technology. New North Door 25H Shenhua Commercial Building, Jiabin Road 2018, Luohu District, Shenzhen, China, 518000; and Floor 2, 4 Bldg., Jinyuan Science and Technology Industry Park, Fengmen Road Bantian Town, Longgang District, Shenzhen, China. | For all items subject to the EAR. (See § 744.11 of the EAR). | Presumption of denial | 85 FR [INSERT FR PAGE NUMBER] 9/22/20.
| * * * * * *
| Shenzhen Shunjinxin Import & Export Co. Ltd., a.k.a., the following one alias: —Shenzhen Shunjinxin IMP&Export Co. Ltd. 25H North Door Shenhua Comm. Build., Jiabin Road 2018, Luohu District, Shenzhen, China; and Room 2114, 21/FL Shenhua Commercial Bldg, Luohu District Shenzhen, China, 518001; and Room 815, 8F Zhongzhen Bld., No. 68, Luofang, South Louhu, Shenzhen, China. | For all items subject to the EAR. (See § 744.11 of the EAR). | Presumption of denial | 85 FR [INSERT FR PAGE NUMBER] 9/22/20.
| * * * * * *
| Shihezi Municipality Public Security Bureau, 209 N Fourth Rd., Shihezi City, XUAR 832000, China. | For all items subject to the EAR. (See § 744.11 of the EAR). | Case-by-case review for ECCNs 1A004.c, 1A004.d, 1A995, 1A999.a, 1D003, 2A983, 2D983, and 2E983, and for EAR99 items described in the Note to ECCN 1A995; case-by-case review for items necessary to detect, identify and treat infectious disease; and presumption of denial for all other items subject to the EAR | 84 FR 54004, 10/9/19. 85 FR 44159, 7/22/20.
| * * * * * *
| Suki Zhan, Room 2114, 21/FL Shenhua Commercial Bldg, Luohu District Shenzhen, China, 518001; and Floor 2, 4 Bld., Jinyuan Science and Technology Industry Park, Fengman Road Bantian Town, Longgang District, Shenzhen, China. | For all items subject to the EAR. (See § 744.11 of the EAR). | Presumption of denial | 85 FR [INSERT FR PAGE NUMBER] 9/22/20.
| * * * * * *
* * * * * * *
HONG KONG | * * * * * *
| Hong Kong Fung Tak Enterprise, FLAT/RM A 30, 9/F Silvercorp International Tower, 707-713, Nathan Road, Mongkok, Kowloon, Hong Kong. | For all items subject to the EAR. (See § 744.11 of the EAR). | Presumption of denial | 85 FR [INSERT FR PAGE NUMBER] 9/22/20.
| * * * * * *
| Oriental Logistics Group LTD, a.k.a., the following one alias: —Oriental Air Transport Service Ltd. Unit B, 10th Floor, United Overseas Plaza, No. 11, Lai Yip Street, Kwun Tong, Kowloon, Hong Kong; and 10/F, Union Bldg, 112 How Ming, Kwun Tong, Kowloon, Hong Kong (see alternate address in China). | For all items subject to the EAR. (See § 744.11 of the EAR). | Presumption of denial | 85 FR [INSERT FR PAGE NUMBER] 9/22/20.
| * * * * * *
* * * * * * *
IRAN | * * * * * *
| Ahmad Nozad Gholik, Iran. | For all items subject to the EAR. (See § 744.11 of the EAR). | Presumption of denial | 85 FR [INSERT FR PAGE NUMBER] 9/22/20.
| Ali Basati, No. 2, 5th floor, Abbasian Bld., Jomhoori Ave., Tehran, Iran; and No. 48, Abbasian Bld, Republic Street, Tehran, Iran. | For all items subject to the EAR. (See § 744.11 of the EAR). | Presumption of denial | 85 FR [INSERT FR PAGE NUMBER] 9/22/20.
| * * * * * *
| Behnam Pouremadi, Tehran Hakimi Gelayol Alley Number 19 100 Tehran 1438371659 24 Tehran, Iran. | For all items subject to the EAR. (See § 744.11 of the EAR). | Presumption of denial | 85 FR [INSERT FR PAGE NUMBER] 9/22/20.
| Behnaz Moazen, No. 2, 5th floor, Abbasian Bld., Jomhoori Ave., Tehran, Iran; and No. 2, 5th floor, Abbasian Bld., Republic Street, Tehran, Iran; and No. 48, Abbasian Bld, Republic Street, Tehran, Iran. | For all items subject to the EAR. (See § 744.11 of the EAR). | Presumption of denial | 85 FR [INSERT FR PAGE NUMBER] 9/22/20.
| Blue Lines Company, Unit 3, 13th Floor, Negar Tower, Vansk Square, Tehran, Iran. | For all items subject to the EAR. (See § 744.11 of the EAR). | Presumption of denial | 85 FR [INSERT FR PAGE NUMBER] 9/22/20.
| * * * * * *
| FARSCO Aviation MRO Centre, Sanaye Havapeymaei Blvd., Karaj Makhsous Road 13976-13511, Tehran, Iran. | For all items subject to the EAR. (See § 744.11 of the EAR). | Presumption of denial | 85 FR [INSERT FR PAGE NUMBER] 9/22/20.
| * * * * * *
| Hamid Sepehrian, Jaber Ibn Hayan Research Institute, AEOI, P.O. Box 11365/8486, Tehran, Iran. | For all items subject to the EAR. (See § 744.11 of the EAR). | Presumption of denial | 85 FR [INSERT FR PAGE NUMBER] 9/22/20.
| * * * * * *
| Landa Ariya Electronic Co., a.k.a., the following three aliases: —Landa Ariya Electronic Co. Ltd.; —Landa Electronic; and —Landa Electronics. No. 2, 5th floor, Abbasian Bld., Jomhoori Ave., Tehran, Iran; and No. 2, 5th floor, Abbasian Bld., Republic Street, Tehran, Iran; and No. 48, Abbasian Bld, Republic Street, Tehran, Iran (see alternate addresses in China). | For all items subject to the EAR. (See § 744.11 of the EAR). | Presumption of denial | 85 FR [INSERT FR PAGE NUMBER] 9/22/20.
| * * * * * *
| Mahdi Keivan Bahari, a.k.a., the following three aliases: —Mehdi Keivan; —M. Aziz; and; —Aziz Bahari. Unit 3, 13th Floor, Negar Tower, Vansk Square, Tehran, Iran. | For all items subject to the EAR. (See § 744.11 of the EAR). | Presumption of denial | 85 FR [INSERT FR PAGE NUMBER] 9/22/20.
| * * * * * *
| Mahsa Keivan Bahari, a.k.a., the following three aliases: —Katrina Smich; —Katrina Smitch; and —K.A. Smich. Unit 3, 13th Floor, Negar Tower, Vansk Square, Tehran, Iran. | For all items subject to the EAR. (See § 744.11 of the EAR). | Presumption of denial | 85 FR [INSERT FR PAGE NUMBER] 9/22/20.
| * * * * * *
| Mohsen Asraftaba, No. 2, 5th floor, Abbasian Bld., Jomhoori Ave., Tehran, Iran; and No. 2, 5th floor, Abbasian Bld., Republic Street, Tehran, Iran; and No. 48, Abbasian Bld, Republic Street, Tehran, Iran. | For all items subject to the EAR. (See § 744.11 of the EAR). | Presumption of denial | 85 FR [INSERT FR PAGE NUMBER] 9/22/20.
| Mojtaba Farhadi Ganjeh, Iran. | For all items subject to the EAR. (See § 744.11 of the EAR). | Presumption of denial | 85 FR [INSERT FR PAGE NUMBER] 9/22/20.
| * * * * * *
| Rouhollah Abdollahi, Sanaye Havapeymaei Blvd. Karaj Makhsous Road 13976-13511, Tehran, Iran. | For all items subject to the EAR. (See § 744.11 of the EAR). | Presumption of denial | 85 FR [INSERT FR PAGE NUMBER] 9/22/20.
| S.M. Mirbagheri, Sanaye Havapeymaei Blvd. Karaj Makhsous Road 13976-13511, Tehran, Iran. | For all items subject to the EAR. (See § 744.11 of the EAR). | Presumption of denial | 85 FR [INSERT FR PAGE NUMBER] 9/22/20.
| * * * * * *
| Sayyed Javad Ahmadi, Nuclear Science and Technology Research Institute, End of North Karegar Avenue, P.O. Box 1439951113, Tehran, Iran. | For all items subject to the EAR. (See § 744.11 of the EAR). | Presumption of denial | 85 FR [INSERT FR PAGE NUMBER] 9/22/20.
| * * * * * *
* * * * * * *
MALAYSIA | * * * * * *
| MKB Pacific Air SDN BHD, No. 214, 2nd Floor, Wisma MPL, Jalan Raja Chulan, 50200, Kuala Lumpur, Malaysia. | For all items subject to the EAR. (See § 744.11 of the EAR). | Presumption of denial | 85 FR [INSERT FR PAGE NUMBER] 9/22/20.
| * * * * * *
* * * * * * *
OMAN | Airborne Logistics LLC, C.R. No 1/79103/6, 112 Ruwi, Sultanate of Oman. | For all items subject to the EAR. (See § 744.11 of the EAR). | Presumption of denial | 85 FR [INSERT FR PAGE NUMBER] 9/22/20.
| * * * * * *
PAKISTAN | * * * * * *
| Affiliated Supply and Consultancy Services, Office 208, R.A. Bazar, Rawalpindi, Pakistan; and Office No. 210-A, R.A. Bazar, Rawalpindi, Pakistan. | For all items subject to the EAR. (See § 744.11 of the EAR). | Presumption of denial | 85 FR [INSERT FR PAGE NUMBER] 9/22/20.
| * * * * * *
| Busan International, No. 2 2nd Floor Plaza 6, Upper Banl Al-Falah, DHA2, Commercial Sector E, Jinnah Boulevard, Islamabad, Pakistan. | For all items subject to the EAR. (See § 744.11 of the EAR). | See § 744.2(d) of the EAR | 85 FR [INSERT FR PAGE NUMBER] 9/22/20.
| Business Empire International, a.k.a., the following one alias: —Drillage Trading FZE LLC. H-9, Block-9, Sector-F, Business Bay, DHA-1, Islamabad, Pakistan; and No. 13, Second Floor, Rahmat Centre, Islamabad, 44000. | For all items subject to the EAR. (See § 744.11 of the EAR). | See § 744.2(d) of the EAR | 85 FR [INSERT FR PAGE NUMBER] 9/22/20.
| * * * * * *
| IMCO Technology and Services, a.k.a., including the following alias: —IMCO. No. 9, 2nd Floor, Royal Inn Plaza, Kohistan Road, F-8 Mar kaz, Islamabad, Pakistan. | For all items subject to the EAR. (See § 744.11 of the EAR). | See § 744.2(d) of the EAR | 85 FR [INSERT FR PAGE NUMBER] 9/22/20.
| * * * * * *
| Iqbal Enterprises, 14 Nishter Road, Lahore, Pakistan. | For all items subject to the EAR. (See § 744.11 of the EAR). | See § 744.2(d) of the EAR | 85 FR [INSERT FR PAGE NUMBER] 9/22/20.
| * * * * * *
| KTK Engineering (PVT) LTD, 29-M, Civic Centre, Model Town Ext., Lahore, Pakistan. | For all items subject to the EAR. (See § 744.11 of the EAR). | See § 744.2(d) of the EAR | 85 FR [INSERT FR PAGE NUMBER] 9/22/20.
| * * * * * *
* * * * * * *
THAILAND | * * * * * *
| Marilog Avion Services Company, Limited, 987 Silom Road, Bang Rak, Bangkok, Thailand, 10500. | For all items subject to the EAR. (See § 744.11 of the EAR). | Presumption of denial | 85 FR [INSERT FR PAGE NUMBER] 9/22/20.
| Mohamad Rifan, 987 Silom Road, Bang Rak, Bangkok, Thailand, 10500. | For all items subject to the EAR. (See § 744.11 of the EAR). | Presumption of denial | 85 FR [INSERT FR PAGE NUMBER] 9/22/20.
| * * * * * *
TURKEY | * * * * * *
| Blue Lines FZE, Unit 2706, Floor 27, Maslak Baybigiz Plaza, 34396, Istanbul, Turkey (see alternate address under United Arab Emirates). | For all items subject to the EAR. (See § 744.11 of the EAR). | Presumption of denial | 85 FR [INSERT FR PAGE NUMBER] 9/22/20.
| * * * * * *
UNITED ARAB EMIRATES | * * * * * *
| Abdulla K. Al Suleimani, a.k.a., the following two aliases: —Shehab Ahmed; and —Hamad Abdulla. Jebel Ali Free Zone, P.O. Box 61002, Dubai, United Arab Emirates. | For all items subject to the EAR. (See § 744.11 of the EAR). | Presumption of denial | 85 FR [INSERT FR PAGE NUMBER] 9/22/20.
| * * * * * *
| Ajmal Aviation, P.O. Box 40445, Building C1, Ajman Free Zone, Ajman, United Arab Emirates. | For all items subject to the EAR. (See § 744.11 of the EAR). | Presumption of denial | 85 FR [INSERT FR PAGE NUMBER] 9/22/20.
| * * * * * *
| Blue Lines FZE, RAK Free Zone, P.O. Box 10559, Ras Al Khaimah, United Arab Emirates (see alternate address under Turkey). | For all items subject to the EAR. (See § 744.11 of the EAR). | Presumption of denial | 85 FR [INSERT FR PAGE NUMBER] 9/22/20.
| * * * * * *
| E and I Systems FZE, Business Centre, Al Shmookh Building, UAQ Free Trade Zone, Umm Al Quwain, United Arab Emirates. | For all items subject to the EAR. (See § 744.11 of the EAR). | See § 744.2(d) of the EAR | 85 FR [INSERT FR PAGE NUMBER] 9/22/20.
| * * * * * *
| Ibrahim Nasir, P.O. Box 32332, Dubai, United Arab Emirates (See additional address in Canada). | For all items subject to the EAR. (See § 744.11 of the EAR). | Presumption of denial | 85 FR [INSERT FR PAGE NUMBER] 9/22/20.
| * * * * * *
| Lufti Busaidi Sulaiman, a.k.a., the following one alias: — Lufti Al Busaidi. Jebel Ali Free Zone, P.O. Box 61002, Dubai, United Arab Emirates. | For all items subject to the EAR. (See § 744.11 of the EAR). | Presumption of denial | 85 FR [INSERT FR PAGE NUMBER] 9/22/20.
| * * * * * *
| Mohamed Nashir, Jebel Ali Free Zone, P.O. Box 61002, Dubai, United Arab Emirates. | For all items subject to the EAR. (See § 744.11 of the EAR). | Presumption of denial | 85 FR [INSERT FR PAGE NUMBER] 9/22/20.
| * * * * * *
| Rigsol Well Drilling Equipment Trading, a.k.a., the following one alias: —Rigsol. Saleh Al Kazim, Deira, Garhoud, Dubai, United Arab Emirates; and Office No. 3, Al Kazim Building, Garhoud, Dubai, United Arab Emirates. | For all items subject to the EAR. (See § 744.11 of the EAR). | See § 744.2(d) of the EAR | 85 FR [INSERT FR PAGE NUMBER] 9/22/20.
| * * * * * *
| S&D Industry Ltd., Souk Al Kabeer Building, Office No. F01, Bur Dubai Area, P.O. Box 932, Dubai, United Arab Emirates; and Office No. 1, Galadari Engineering Works Building, Deira, Dubai, United Arab Emirates; and 1304 Al Baker Tower 4, Al Tawun, Sharjah, United Arab Emirates. | For all items subject to the EAR. (See § 744.11 of the EAR). | See § 744.2(d) of the EAR | 85 FR [INSERT FR PAGE NUMBER] 9/22/20.
| * * * * * *
| Shehab Bin Braik Al Breiki, Jebel Ali Free Zone, P.O. Box 61002, Dubai, United Arab Emirates. | For all items subject to the EAR. (See § 744.11 of the EAR). | Presumption of denial | 85 FR [INSERT FR PAGE NUMBER] 9/22/20.
| * * * * * *
| Transworld Aviation, a.k.a., the following one alias: —Transworld Aviation FZE. Jebel Ali Free Zone, P.O. Box 61002, Dubai, United Arab Emirates. | For all items subject to the EAR. (See § 744.11 of the EAR). | Presumption of denial | 85 FR [INSERT FR PAGE NUMBER] 9/22/20.
UNITED KINGDOM | * * * * * *
| Aviation Network Associates, a.k.a., the following one alias: —Aviana. 24 Chiswell Street, 3rd Floor, London, United Kingdom EC1Y 4YX. | For all items subject to the EAR. (See § 744.11 of the EAR). | Presumption of denial | 84 FR [INSERT FR PAGE NUMBER] 9/22/20.
| * * * * * *
| Chas Newport, 24 Chiswell Street, 3rd Floor, London, United Kingdom EC1Y 4YX. | For all items subject to the EAR. (See § 744.11 of the EAR). | Presumption of denial | 84 FR [INSERT FR PAGE NUMBER] 9/22/20.
| * * * * * *
| Daniel Basden, Aviation 3 Trebeck Street, Mayfair, London, United Kingdom W1J7 LS. | For all items subject to the EAR. (See § 744.11 of the EAR). | Presumption of denial | 84 FR [INSERT FR PAGE NUMBER] 9/22/20.
| * * * * * *
| Graham Avery, Aviation 3 Trebeck Street, Mayfair, London, United Kingdom W1J7 LS. | For all items subject to the EAR. (See § 744.11 of the EAR). | Presumption of denial | 84 FR [INSERT FR PAGE NUMBER] 9/22/20.
| * * * * * *
| PremiAir Aerospace, a.k.a., the following one alias: —Aviation International. Aviation 3 Trebeck Street, Mayfair, London, United Kingdom W1J7 LS; and Station Cottage, The Street, Nacton, Ipswich, Suffolk, United Kingdom, IP10 0HR. | For all items subject to the EAR. (See § 744.11 of the EAR). | Presumption of denial | 84 FR [INSERT FR PAGE NUMBER] 9/22/20.
| * * * * * *
* * * * * * *

Matthew S. Borman,
Deputy Assistant Secretary for Export Administration.

[FR Doc. 2020-18515 Filed 9-21-20; 8:45 am]

BILLING CODE 3510-33-P